DEPARTMENT OF TRANSPORTATION

Federal Railroad Administration

49 CFR Parts 222 and 229

[Docket No. FRA-1999-6439, Notice No. 13]

RIN 2130-AA71

Use of Locomotive Horns at Highway-Rail Grade Crossings

AGENCY: Federal Railroad Administration (FRA), Department of Transportation (DOT).

ACTION: Interim final rule; change of effective date.

SUMMARY: On December 18, 2003, FRA published an Interim Final Rule (IFR) in the Federal Register (68 FR 70586) addressing the use of locomotive horns at highway-rail grade crossings. As FRA was interested in receiving public comments on all aspects of the IFR, FRA held a public hearing in Washington, DC on February 4, 2004 and extended the comment period from the originally scheduled deadline of February 17, 2004 to April 19, 2004. However, by the close of the extended comment period, FRA had received more than 1,400 comments on the IFR and Environmental Impact Statement. Given the extensive amount of time needed to review and analyze the comments received, FRA will be unable to issue a final rule before the IFR effective date of December 18, 2004. Therefore, FRA is issuing this document to announce the change of the IFR effective date.

DATES: The effective date of the IFR published at 68 FR 70856 is changed from December 18, 2004 to April 1, 2005.

FOR FURTHER INFORMATION CONTACT: Ron Ries, Office of Safety, FRA, 1120 Vermont Avenue, NW., Washington, DC 20590 (telephone (202) 493-6299); or Kathryn Shelton, Office of Chief Counsel, FRA, 1120 Vermont Avenue, NW., Washington, DC 20590 (telephone (202) 493-6038).

SUPPLEMENTARY INFORMATION: This document changes the IFR effective date to April 1, 2005. Therefore, any requirements imposed by the IFR that pertain to 49 CFR parts 222 and 229 and would have taken effect before April 1, 2005 need not be complied with before that date. This document does not, however, modify any IFR requirements that are scheduled to take effect on or after April 1, 2005.

As the provisions of the IFR remain subject to further modification under the terms of the final rule, FRA intends to issue the final rule prior to April 1, 2005. Thus, this change of the IFR effective date will give public authorities additional time within which to establish the necessary conditions that will permit them to continue or establish quiet zones within their respective jurisdictions.

In order to address the concerns of communities that have been anxiously awaiting the issuance of the final rule, the provisions of the final rule for quiet zone-related administrative matters will become effective 30 days after publication of the final rule. Therefore, public authorities will be permitted to submit quiet zone applications and/or notification packages 30 days after the final rule is published. However, the provisions of the final rule which require railroads to sound the locomotive horn when approaching and entering public highway-rail grade crossings will not take effect until April 1, 2005. This delay should give communities additional time within which to come into compliance with the requirements of the final rule before routine locomotive horn sounding is initiated at public grade crossings within the area.

Issued in Washington, DC, on November 17, 2004.
Betty Monro,
Acting Administrator.

[FR Doc. 04-25900 Filed 11-19-04; 8:45 am]

BILLING CODE 4910-06-U